DEPARTMENT OF AGRICULTURE

Forest Service

Bend/Ft. Rock Ranger District; Deschutes National Forest; Deschutes County, OR; West Bend Vegetation Management Project EIS

AGENCY: Forest Service, USDA.

ACTION: Notice of Intent To Prepare an Environmental Impact Statement.

SUMMARY: The USDA, Forest Service, will prepare an environmental impact statement (EIS) on a proposed action to promote development of large tree structural conditions and to improve forest health and fuel conditions within the 25,700-acre West Bend planning area. The planning area is located to the west of Bend, Oregon, bounded on the east side by the urban interface of Bend, and on the west by the Bend Watershed Roadless Area. The planning area is entirely within public lands managed by the Deschutes National Forest, except for a 588-acres inholding of privately-owned land. An analysis has been initiated that takes a landscape approach to managing the vegetation to meet objectives for resilient forest, fuels and fire behavior, wildlife habitat, and aesthetics. Methods that would be used to reduce tree density and hazardous fuels are: non-commercial and commercial thinning, mechanical shrub treatment, prescribed burning, arid invasive plant treatment with herbicide. The alternatives will include the proposed action, no action, and, if necessary, additional alternatives that respond to issues generated through the scoping process. The agency will give notice of the full environmental analysis and decision-making process so interested and affected public may participate and contribute to the final decision.

DATES: Comments concerning the scope of the analysis must be received by 30 days following the date that this notice appears in the Federal Register.

ADDRESSES: Send written comments to Shane Jeffries, District Ranger, Bend-Fort Rock Ranger District, Red Oaks Square, 1230 NE. Third Street, Suite A-262, Bend, Oregon 97701.

FOR FURTHER INFORMATION CONTACT: Beth Peer, Environmental Coordinator, Bend-Fort Rock Ranger District, Red Oaks Square, 1230 NE. Third Street, Suite A-262, Bend, Oregon 97701, phone (541) 383-4769.

Responsible Official: The responsible official is John Allen, Forest Supervisor, Deschutes National Forest, 1001 SW. Emkay Dr., Bend, OR 97701.

SUPPLEMENTARY INFORMATION: Background. Forested vegetation within the West Bend project area is outside of the Historic Range of Variability (HRV) because industrial logging and wildfire suppression/exclusion have shifted the structural stages and species mix. What was once dominated by ponderosa pine and maintained by low intensity fire is now primarily mid-seral black bark pine with more lodgepole and white fir than what occurred historically. Disturbance processes are best kept within proportions that historically occurred or they have the potential to remove important habitat structure, particularly large trees that are desired over the long-term. The HRV is important to wildlife populations because the distribution, quality, and quantity of habitat largely determines the potential for a wildlife species to exist at viable levels. As habitat was converted, fragmented, and opened to motorized access, many species were reduced in number and others were precluded from portions of their geographic range altogether. Vegetation management is intended to move the project area towards the HRV which will benefit certain focal species that are currently lacking habitat.

The project area is located within two Community Wildfire Protection Plan (CWPP) areas. The CWPPs have defined the wildland-urban interface (WUI), and outlined priorities and strategies for reducing fuels in the WUI and other areas of special concern such as evacuation routes. The project area is very popular with recreationists. Bounded by the Cascade Lakes Scenic Byway to the south, Skyliner Road to the north, and the city limits of Bend to the east, the area supports miles of biking, hiking, snowmobile, crosscountry skiing, and snowshoeing trails. The Forest is the central component of the recreation experience.

Purpose and Need. The purpose for entering the West Bend project area includes restoration of the forest landscape towards historic conditions that are considered more resilient than the current condition. Resilience to fire and insects is important so that disturbance events will not lead to large-scale loss of forest. This objective will also lead to creating and maintaining a diversity of wildlife habitats closer to what historically occurred. There is also a need to maintain forest conditions conducive to the desired recreation experience.

Public safety is another purpose for the project. Maintaining previous fuels reduction treatments to provide for long-term public safety and further reduce fire and fuels hazard to Bend and the Bend watershed are important objectives. There is also a need to provide travel corridors that are safe for the public and provide wildland firefighter access during a wildfire event.

The project area is located in Forest Plan management allocations that are appropriate for producing wood products. There is a need to contribute to the local and regional economies by providing timber and other wood fiber products now and in the future.

Proposed Action. The Forest Service proposes to implement activities across approximately 22,000 acres within the West Bend project area. Silviculture treatments (e.g. thinning) will provide a diversity of forest structures that are more in line with historical conditions. Thinning will encourage the development of late and old structure characteristics in stands where not currently present. Commercial thinning accounts for approximately 13,190 acres. Shrub mowing will reduce surface and ladder fuels and allow fire to be used as an ecological restoration tool. Prescribed fire will be applied in the fire-dependent ecosystems to reduce fuels, maintain habitat, and allow fire to perform its natural ecological function. Treatments are designed to address the objectives for each stand type and management area objective. Treatments will occur most often in combination, such as thinning followed by mowing followed by underburning. Herbicides are proposed for the control and elimination of invasive plant sites on approximately 18 acres.

Issues. Preliminary issues include the potential effect of the proposed action on soil productivity, invasive plant introduction and spread, and Management Indicator Species.

Comment. Public comments regarding this proposal are requested in order to assist in identifying issues, determine how to best manage the resources, and to focus the analysis. Comments received to this notice, including names and addresses of those who comment, will be considered part of the public record on this proposed action and will be available for public inspection. This is also an opportunity to participate in the National Historic Preservation Act, section 106 process.

A draft EIS will be filed with the Environmental Protection Agency (EPA) and available for public review by August 2011. The EPA will publish a Notice of Availability (NOA) of the draft EIS in the Federal Register. The final EIS is scheduled to be available February 2012.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest. The responsible official will decide where and whether or not to apply natural fuels treatments, thin stands, and reforest group cuts. The responsible official will also decide how to mitigate impacts of these actions and will determine when and how monitoring of effects will take place.

The West Bend Vegetation Management decision and the reasons for the decision will be documented in the record of decision, which will be subject to Forest Service Appeal Regulations (35 CFR part 215).

Dated: November 15, 2010.
A. Shane Jeffries,
District Ranger, Bend/Ft. Rock Ranger District, Deschutes National Forest.

[FR Doc. 2010-29476 Filed 11-23-10; 8:45 am]

BILLING CODE 3410-11-M